DEPARTMENT OF COMMERCE

International Trade Administration

[A-570-970]

Multilayered Wood Flooring From the People's Republic of China: Final Results of Antidumping Duty Administrative Review and Final Determination of No Shipments; 2021-2022; Correction

AGENCY: Enforcement and Compliance, International Trade Administration, Department of Commerce.

ACTION: Notice; correction.

SUMMARY: The U.S. Department of Commerce (Commerce) published notice in the Federal Register of May 1, 2024 in which Commerce published the final results of the 2021-2022 administrative reviews of the antidumping duty (AD) order on multilayered wood flooring from the People's Republic of China (China). This notice contained an incomplete list of the companies determined to have no shipments of subject merchandise during the period of review (POR) December 1, 2021, through November 30, 2022.

FOR FURTHER INFORMATION CONTACT: Davyd Williams, AD/CVD Operations, Office VIII, Enforcement and Compliance, International Trade Administration, U.S. Department of Commerce, 1401 Constitution Avenue NW, Washington, DC 20230; telephone: (202) 482-4338.

SUPPLEMENTARY INFORMATION:

Background

On May 1, 2024, Commerce published in the Federal Register the final results of the 2021-2022 administrative review of the AD order on multilayered wood flooring from China.¹ In Appendix II of this Federal Register notice, we listed the companies which had no shipments of subject merchandise during the POR. However, we failed to include two companies, Dongtai Fuan Universal Dynamics, LLC and Pinge Timber Manufacturing (Zhejiang) Co., Ltd., in the list of companies which had no shipments in Appendix II.

¹ See Multilayered Wood Flooring From the People's Republic of China: Final Results of Antidumping Duty Administrative Review and Final Determination of No Shipments; 2021-2022, 89 FR 35058 (May 1, 2024).

Correction

In the Federal Register of May 1, 2024, in FR Doc 2024-09316, on page 35058, in the second appendix, correct the list to include Dongtai Fuan Universal Dynamics, LLC and Pinge Timber Manufacturing (Zhejiang) Co., Ltd. The corrected No Shipments List in Appendix II is appended to this notice.

Notification to Interested Parties

This notice is issued and published in accordance with sections sections 751(a) and 777(i)(1) of the Act, and 19 CFR 351.221(b)(5).

Dated: May 2, 2024.
Ryan Majerus,
Deputy Assistant Secretary for Policy and Negotiations, performing the non-exclusive functions and duties of the Assistant Secretary for Enforcement and Compliance.

Appendix II (Corrected)

No Shipments
Anhui Longhua Bamboo Product Co., Ltd.
Benxi Flooring Factory (General Partnership)
Dalian Shengyu Science And Technology Development Co., Ltd.
Dongtai Fuan Universal Dynamics, LLC
Dun Hua Sen Tai Wood Co., Ltd.
Dunhua City Dexin Wood Industry Co., Ltd.
Dunhua Shengda Wood Industry Co., Ltd.
HaiLin LinJing Wooden Products Co., Ltd.
Hunchun Xingjia Wooden Flooring Inc.
Huzhou Sunergy World Trade Co., Ltd.
Jiangsu Keri Wood Co., Ltd.
Jiangsu Mingle Flooring Co., Ltd
Jiangsu Simba Flooring Co., Ltd.
Jiashan On-Line Lumber Co., Ltd.
Kingman Wood Industry Co., Ltd.
Linyi Youyou Wood Co., Ltd.
Pinge Timber Manufacturing (Zhejiang) Co., Ltd.
Power Dekor Group Co., Ltd.
Sino-Maple (Jiangsu) Co., Ltd.
Suzhou Dongda Wood Co., Ltd.
Zhejiang Dadongwu Greenhome Wood Co., Ltd.
Zhejiang Longsen Lumbering Co., Ltd.
Zhejiang Shiyou Timber Co., Ltd.

[FR Doc. 2024-09929 Filed 5-6-24; 8:45 am]

BILLING CODE 3510-DS-P